DEPARTMENT OF THE TREASURY

United States Mint

Citizens Coinage Advisory Committee September 16, 2016, Public Meeting

ACTION: Notice.

SUMMARY: Pursuant to United States Code, Title 31, section 5135(b)(8)(C), the United States Mint announces the Citizens Coinage Advisory Committee (CCAC) public meeting scheduled for March 15, 2016.

Date: September 16, 2016.

Time: 10:00 a.m. to 12:45 p.m.

Location: Conference Room A, United States Mint, 801 9th Street NW., Washington, DC 20220.

Subject: Review and discussion of candidate designs for the 2018, 2019, and 2020 American Eagle Platinum Proof Program “Life, Liberty and the Pursuit of Happiness”; election of jurors for the Breast Cancer Awareness Commemorative Coin Design Competition; and a discussion of the 2015 and 2016 Annual Reports.

Interested persons should call the CCAC HOTLINE at (202) 354-7502 for the latest update on meeting time and room location.

In accordance with 31 U.S.C. 5135, the CCAC:

Advises the Secretary of the Treasury on any theme or design proposals relating to circulating coinage, bullion coinage, Congressional Gold Medals, and national and other medals.

Advises the Secretary of the Treasury with regard to the events, persons, or places to be commemorated by the issuance of commemorative coins in each of the five calendar years succeeding the year in which a commemorative coin designation is made.

Makes recommendations with respect to the mintage level for any commemorative coin recommended.

FOR FURTHER INFORMATION CONTACT: Betty Birdsong, Acting United States Mint Liaison to the CCAC; 801 9th Street NW., Washington, DC 20220; or call 202-354-7200.

Any member of the public interested in submitting matters for the CCAC's consideration is invited to submit them by fax to the following number: 202-756-6525.

Authority: 31 U.S.C. 5135(b)(8)(C).

Dated: August 29, 2016.
David Motl,
Acting Deputy Director for Management, United States Mint.

[FR Doc. 2016-21179 Filed 9-1-16; 8:45 am]

BILLING CODE 3510-22-P